DEPARTMENT OF COMMERCE

National Oceanic and Atmospheric Administration

50 CFR Parts 300, 679, and 680

[Docket No. 211206-0252]

RIN 0648-BK76

Fisheries of the Exclusive Economic Zone Off Alaska; Removal of GOA Sablefish IFQ Pot Gear Tags and Notary Certification Requirements

AGENCY: National Marine Fisheries Service (NMFS), National Oceanic and Atmospheric Administration (NOAA), Commerce.

ACTION: Final rule.

SUMMARY: NMFS issues regulations to modify recordkeeping and reporting requirements to remove pot gear tag requirements in the sablefish Individual Fishing Quota (IFQ) fishery in the Gulf of Alaska (GOA) and remove requirements to obtain and submit a notary certification on various programs' application forms. This action is intended to reduce administrative burden on the regulated fishing industry and the National Marine Fisheries Service (NMFS). This action promotes the goals and objectives of the Magnuson-Stevens Fishery Conservation and Management Act (Magnuson-Stevens Act, or MSA), the Halibut Act, fishery management plans (FMPs), and other applicable laws.

DATES: Effective December 13, 2021.

ADDRESSES: Electronic copies of the Regulatory Impact Review (referred to as the Analysis) and Categorical Exclusion prepared for this action are available from www.regulations.gov or from the NMFS Alaska Region website at https://www.fisheries.noaa.gov/region/alaska.

Written comments regarding the burden-hour estimates or other aspects of the collection-of-information requirements contained in this final rule may be submitted to NMFS Alaska Region, P.O. Box 21668, Juneau, AK 99802-1668, Attn: Glenn Merrill; and to www.reginfo.gov/public/do/PRAMain. Find this particular information collection by using the search function.

FOR FURTHER INFORMATION CONTACT: Alicia M Miller at 907-586-7228 or Alicia.m.miller@noaa.gov.

SUPPLEMENTARY INFORMATION: This final rule implements regulations to modify recordkeeping and reporting requirements to remove pot gear tag requirements in the sablefish Individual Fishing Quota (IFQ) fishery in the Gulf of Alaska (GOA) and remove requirements to obtain and submit a notary certification on various programs' application forms. NMFS published a proposed rule to implement in the Federal Register on October 6, 2021 (86 FR 55560) with comments invited through November 5, 2021. All comments submitted on or before November 5, 2021 were considered in the development of this final rule and no substantive changes have been made from the proposed rule in this final rule.

Background

In April 2021, the Council requested NMFS propose regulations pursuant to section 305(d) of the Magnuson-Stevens Act to remove the requirements for sablefish IFQ fishermen using longline pot gear in the GOA to annually register their vessel to participate in this fishery and obtain and mark their gear with pot gear tags, as well as to remove the requirement to obtain a notary certification on IFQ Program application forms. Amendment 101 to the GOA FMP authorized the use of longline pot gear in the sablefish IFQ fishery. The pot gear tag requirements were implemented in the final rule implementing Amendment 101 pursuant to MSA section 305(d), but were not included in the FMP (81 FR 95435, December 28, 2016). This final rule will modify recordkeeping and reporting requirements to remove pot gear tag requirements in the sablefish IFQ fishery in the GOA and remove requirements to obtain and submit a notary certification on application forms submitted under the halibut and sablefish IFQ Program, Charter Halibut Limited Access Program (CHLAP), Community Quota Entity (CQE) Program, License Limitation Program (LLP), and the Crab Rationalization (CR) Program. The primary purpose for requiring a notary certification was to prevent fraud and forgery by requiring the personal presence of the signer and satisfactorily identifying the signer. The Council determined, and NMFS agrees, that both the aforementioned pot gear tag requirements and the notary requirements are unnecessary and administratively burdensome on the fleet and NMFS alike.

The need for this rule and background information on the IFQ Program, CQE Program, CHLAP, LLP, and the CR Program are explained in more detail in the preamble to the proposed rule (October 6, 2021, 86 FR 55560). The purpose and impacts of this rule, as well as the specific provisions included, are summarized in the following sections.

The purpose of this action is to remove recordkeeping and reporting requirements that are no longer necessary. This action is intended to reduce administrative burden on the regulated fishing industry and NMFS by making two types of revisions to Federal regulations. First, this rule removes regulations requiring the use of pot gear tags in the longline pot gear sablefish IFQ fishery in the GOA. Second, this rule removes notary certification requirements for several application forms submitted to NMFS.

Pot Gear Tags

This rule removes the requirement that all pots deployed in GOA sablefish areas have a pot gear tag that is (1) issued by NMFS and (2) assigned by NMFS to a vessel that is licensed by the State of Alaska. Regulations requiring a vessel owner to request and receive pot gear tags by submitting an application to NMFS are removed. NMFS will no longer issue pot gear tags to vessel owners. Vessel owners are no longer required to submit an application to NMFS for the purpose of assigning pot gear tags to the gear used by that vessel, and vessel operators are no longer required to track individual pot gear tags marked with a unique identifier that are assigned to their vessel.

Notary Certification

This rule removes requirements to obtain and submit a notary certification on specific NMFS application forms. All affected application forms submitted to NMFS continue to include a certification attesting to agreement with a statement that the information submitted on the application form is true and correct under penalty of perjury. See 28 U.S.C. 1746. This certification is sufficient to deter fraud and forgery, and to adequately enforce fraud and forgery should it occur.

This rule modifies regulations applicable to the halibut and sablefish IFQ Program, CHLAP, CQE Program, LLP, and the CR Program. The notary certification is removed from the following application forms.

IFQ Program

• Application for Eligibility to Receive QS/IFQ;

• Application for Transfer of QS;

• Application for Temporary Transfer of Halibut/Sablefish Individual Fishing Quota (IFQ) (this includes: Category A IFQ transfer, surviving beneficiary, Temporary military transfer, and IFQ transfer to CDQ groups during year of low halibut abundance);

• Application for a Non-profit Corporation to be Designated as a Recreational Quota Entity (RQE); and

• Application For Transfer Of Quota Share To Or From A Recreational Quota Entity (RQE).

CQE Program

• Application for a Non-profit Corporation to be Designated as a Community Quota Entity (CQE); and

• Application for Transfer of Quota Share to or From A Community Quota Entity (CQE).

CHLAP

Application For Transfer Of Charter Halibut Permit (CHP).

LLP

Application For Transfer License Limitation Program Groundfish/Crab License.

CR Program

• Application for Transfer of Crab Quota Share (QS);

• Application for Transfer of Crab Processor Quota Share (PQS);

• Application to Become An Eligible Crab Community Organization (ECCO);

• Application for Transfer of Crab QS/IFQ to or from an Eligible Crab Community Organization (ECCO); and

• (Bering Sea and Aleutian Islands (BSAI) Crab Rationalization Program Quota Share (QS) Beneficiary Designation Form.

Regulations

This rule revises regulations at 50 CFR part 300, 50 CFR part 679, and 50 CFR part 680 to (1) to remove pot gear tag requirements in the sablefish IFQ fishery in the GOA and (2) remove requirements to obtain and submit a notary certification on application forms.

Pot Gear Tags

This rule revises §§ 679.7(f)(18) and (19), and 679.42(l)(2) through (l)(5), to remove regulations governing the requirements to request and use pot gear tags when using longline pot gear in the GOA sablefish IFQ fishery.

Notary Certification

This rule revises §§ 300.67, 679.4, 679.41, and 680.41 to remove requirements to obtain and submit a notary certification on application forms submitted under the IFQ Program, CHLAP, CQE Program, LLP, and CR Program.

This rule revises § 300.67(i)(4) to remove the requirement to obtain a notary certification on an application to transfer a CHP.

This rule revises § 679.4(k)(7)(iii) to remove the requirement to obtain a notary certification on an application for transfer of a groundfish or crab LLP.

This rule revises §§ 679.41(c)(3), 679.41(l)(3)(iii)(D), 679.41(m)(3)(v), and 679.41(n)(2)(iii)(D) to remove requirements to obtain a notary certification on the following IFQ Program and CQE Program Application forms:

• Application for Transfer of QS;

• Application for Temporary Transfer of Halibut/Sablefish Individual Fishing Quota (IFQ) (This includes: Category A IFQ transfer, surviving beneficiary, Temporary military transfer, and IFQ transfer to CDQ groups during year of low halibut abundance.);

• Application for a Non-profit Corporation to be Designated as a Recreational Quota Entity (RQE);

• Application For Transfer Of Quota Share To Or From A Recreational Quota Entity (RQE);

• Application for a Non-profit Corporation to be Designated as a Community Quota Entity (CQE); and

• Application for Transfer of Quota Share to or From A Community Quota Entity (CQE).

The application for eligibility to receive QS or IFQ requires an applicant to obtain and submit a notary certification. This requirement is not included in regulations and will be removed from the form.

This rule revises §§ 680.41(c)(2)(ii)(F)(2), 680.41(i)(2), 680.41(j)(2)(i)(C), and 680.41(k)(3)(ix) to remove requirements to obtain a notary certification on the following CR Program application forms:

• Application for Transfer of Crab Quota Share (QS);

• Application for Transfer of Crab Processor Quota Share (PQS);

• Application to Become An Eligible Crab Community Organization (ECCO);

• Application for Transfer of Crab QS/IFQ to or from an Eligible Crab Community Organization (ECCO); and

• Application for CR Program Eligibility to Receive QS/PQS or IFQ/IPQ by Transfer.

The BSAI CR Program QS beneficiary designation form is revised to remove the requirement to obtain and submit a notary certification.

This rule also corrects a typographical error in § 680.41(k)(3)(ix)(B)(1) to remove the word “transferor” and replace it with “transferee” consistent with the preceding paragraph heading.

Comments and Responses

NMFS received one comment submission from a member of the public on the proposed rule.

Comment 1: Notary certification requirements should not be removed from Federal regulations and identifying information such as the person's name, address, telephone number, business information, and signature should be legible and verified by a notary to prevent fraud.

Response: NMFS will continue to collect identifying information necessary to verify a person's identity in compliance with Federal law. All application forms submitted to NMFS will continue to include a certification whereby the applicant attests to a statement of agreement that the information submitted on the application form is true and correct under penalty of perjury. See 28 U.S.C. 1746. This certification is sufficient to deter fraud and forgery, and to adequately enforce the law should fraud and forgery occur.

Changes From Proposed to Final Rule

There have been no changes in this final rule from the proposed rule.

Classification

NMFS is issuing this rule pursuant to section 305(d) of the Magnuson-Stevens Act. Pursuant to MSA section 305(d), this action is necessary to carry out the BSAI FMP, the GOA FMP, and the Crab FMP, because the aforementioned recordkeeping and reporting requirements are no longer necessary to administer the fishery management programs implemented under these FMPs. The NMFS Assistant Administrator has determined that this rule is consistent with the BSAI FMP, the GOA FMP, the Crab FMP, and other applicable law, subject to further consideration after public comment.

Regulations governing the U.S. fisheries for halibut are developed by the IPHC, the Pacific Fishery Management Council, the Council, and the Secretary. Section 5 of the Halibut Act (16 U.S.C. 773c) allows the regional council having authority for a particular geographical area to develop regulations governing the allocation and catch of halibut in U.S. Convention waters, as long as those regulations do not conflict with IPHC regulations. The final action is consistent with the Council's authority to allocate halibut catches among fishery participants in the waters in and off Alaska.

The Assistant Administrator for Fisheries, NOAA, finds good cause pursuant to 5 U.S.C. 553(d)(1) of the Administrative Procedure Act (APA) to waive the 30-day delay in effectiveness provision of the APA and make this rule effective immediately upon publication in the Federal Register. Because this substantive rule relieves a restriction by removing pot gear tag and notary certification requirements, the 30-day delay in effectiveness serves no purpose. Thus, this rule should not be subject to the 30-day delayed effectiveness provision of the APA pursuant to 5 U.S.C. 553(d)(1). As previously discussed, this rule removes the requirement that all pots deployed in GOA sablefish areas have a pot gear tag that is (1) issued by NMFS and (2) assigned by NMFS to a vessel that is licensed by the State of Alaska. This rule also removes requirements to obtain and submit a notary certification on specific NMFS application forms.

This final rule has been determined to be not significant for the purposes of Executive Order 12866.

Regulatory Impact Review

The Regulatory Flexibility Act, as amended, requires an agency to consider the impact of proposed rules on small entities. A Regulatory Impact Review (RIR) was prepared to assess the costs and benefits of available regulatory alternatives. The RIR considers all quantitative and qualitative measures. A copy of this analysis is available from NMFS (see ADDRESSES).

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

Information Collection Requirements

This final rule contains information collection requirements subject to the Paperwork Reduction Act (PRA) and which have been approved by the Office of Management and Budget (OMB) under OMB Control Numbers 0648-0272 (Alaska Pacific Halibut & Sablefish Fisheries: Individual Fishing Quota (IFQ)); 0648-0334 (Alaska License Limitation Program for Groundfish, Crab, and Scallops); 0648-0514 (Alaska Region Crab Permits); and 0648-0575 (Alaska Pacific Halibut Fisheries: Charter).

This final rule also contains information collection requirements subject to review and approval by the OMB under the PRA. NMFS has submitted these requirements to OMB for approval under OMB Control Numbers 0648-0353 (Alaska Region Gear Identification Requirements) and 0648-0665 (Alaska Community Quota Entity (CQE) Program).

OMB Control Number 0648-0272

The notary certification is removed from five forms approved under this control number. No changes are made to the estimated reporting burdens for these applications as the estimates allow for differences in the time needed to complete and submit the applications. Public reporting burden per individual response is estimated to average 200 hours for the Application for a Non-profit Corporation to be Designated as a Recreational Quota Entity (RQE); and 2 hours each for the Application for Eligibility to Receive QS/IFQ, the Application for Transfer of QS, the Application for Temporary Transfer of Halibut/Sablefish Individual Fishing Quota (IFQ), and the Application For Transfer Of Quota Share To Or From A Recreational Quota Entity (RQE). Removing the notary certification decreases the cost burden of completing these forms.

OMB Control Number 0648-0334

The notary certification is removed from the Application for Transfer License Limitation Program Groundfish/Crab License. No changes are made to the estimated reporting burden for this application as the estimate allows for differences in the time needed to complete and submit the application. Public reporting burden per individual response is estimated to average one hour. Removing the notary certification decreases the cost burden of completing this form.

OMB Control Number 0648-0514

The notary certification is removed from five forms approved under this control number. No changes are made to the estimated reporting burdens for these applications as the estimates allow for differences in the time needed to complete and submit the applications. Public reporting burden per individual response is estimated to average 2.5 hours for the Application to Become An Eligible Crab Community Organization (ECCO); 2 hours each for the Application for Transfer of Crab Quota Share (QS), Application for Transfer of Crab Processor Quota Share (PQS), Application for Transfer of Crab QS/IFQ to or from an Eligible Crab Community Organization (ECCO); and 30 minutes for the BSAI Crab Rationalization Program Quota Share (QS) Beneficiary Designation Form. Removing the notary certification decreases the cost burden of completing these forms.

OMB Control Number 0648-0575

The notary certification is removed from the Application for Transfer Of Charter Halibut Permit (CHP). No changes are made to the estimated reporting burden for this application as the estimate allows for differences in the time needed to complete and submit the application. Public reporting burden per individual response is estimated to average two hours. Removing the notary certification decreases the cost burden of completing this form.

OMB Control Number 0648-0353

This collection is revised to remove two forms associated with pot gear tags: (1) IFQ Sablefish Longline Pot Gear: Vessel Registration and Request for Pot Gear Tags; and (2) IFQ Sablefish Request for Replacement of Longline Pot Gear Tags. These forms are no longer necessary because this rule removes the requirements for vessel owners participating in the longline pot gear sablefish IFQ fishery in the GOA to register their vessel for this fishery and use pot gear tags. Removing these requirements decreases the time burden and cost to participants in this fishery.

OMB Control Number 0648-0665

This information collection is revised, and NMFS requests extension of this collection for three years. This collection contains the application used by a non-profit entity to be designated as a CQE and contains the applications and reports submitted by CQEs to apply for a CHP permit or LLP license; transfer IFQ, quota share, or guided angler fish; and report and manage their fishing activities. This collection is necessary for NMFS to manage the CQE Program.

Due to this rule, this collection is revised to remove the notary certification from the Application for a Non-profit Corporation to be Designated as a Community Quota Entity (CQE) and the Application for Transfer of Quota Share to or From A Community Quota Entity (CQE). No changes are made to the estimated reporting burdens for these applications as the estimates allow for differences in the time needed to complete and submit the applications. Removing the notary certification decreases the cost burden of completing these forms.

The estimated number of respondents for this collection is 94; the estimated total annual burden hours are 1,620 hours; and the estimated total annual cost to the public for recordkeeping and reporting costs is $895.

Public reporting burden per individual response is estimated to average 200 hours for the Application for Nonprofit Corporation to be Designated as a CQE; 40 hours for the CQE Annual Report; 20 hours for the Application for a CQE to Receive a Non-trawl Groundfish LLP License; 2 hours each for the Application for Transfer of Quota Share to or from a Community Quota Entity, the Application for a CQE to Transfer IFQ to an Eligible Community Resident or Non-resident, and the Application for Transfer (Lease) Between IFQ and Guided Angler Fish by a Community Quota Entity (CQE); and 1 hour each for the CQE License Limitation Program Authorization letter and the Application for Community Charter Halibut Permit.

Commenting on Information Collections

We invite the general public and other Federal agencies to comment on proposed and continuing information collections, which helps us assess the impact of our information collection requirements and minimize the public's reporting burden. Written comments and recommendations for this information collection should be submitted on the following website: www.reginfo.gov/public/do/PRAMain. Find the particular information collection by using the search function and entering either the title of the collection or the OMB Control Number.

Notwithstanding any other provision of the law, no person is required to respond to, nor shall any person be subject to penalty for failure to comply with, a collection of information subject to the requirement of the PRA, unless that collection of information displays a currently valid OMB control number.

List of Subjects

50 CFR Part 300

Administrative practice and procedure, Antarctica, Canada, Exports, Fish, Fisheries, Fishing, Imports, Indians, Labeling, Marine resources, Reporting and recordkeeping requirements, Russian Federation, Transportation, Treaties, Wildlife.

50 CFR Part 679

Alaska, Fisheries, Reporting and recordkeeping requirements.

50 CFR Part 680

Alaska, Fisheries, Reporting and recordkeeping requirements.

Dated: December 7, 2021.
Samuel D. Rauch, III,
Deputy Assistant Administrator for Regulatory Programs, National Marine Fisheries Service.

For the reasons set out in the preamble, 50 CFR parts 300, 679, and 680 are amended as follows:

PART 300—INTERNATIONAL FISHERIES REGULATIONS

Subpart E—Pacific Halibut Fisheries

1. The authority citation for part 300, subpart E, continues to read as follows:

Authority: 16 U.S.C. 773-773k.

2. In § 300.67, remove the phrase “notarized and” from the first sentence in paragraph (i)(4).

PART 679—FISHERIES OF THE EXCLUSIVE ECONOMIC ZONE OFF ALASKA

3. The authority citation for part 679 continues to read as follows:

Authority: 16 U.S.C. 773 et seq.; 1801 et seq.; 3631 et seq.; Pub. L. 108-447; Pub. L. 111-281.

4. In § 679.4, remove the phrase “notarized and” from the first sentence in paragraph (k)(7)(iii).

5. In § 679.7, remove and reserve paragraphs (f)(18)(ii) and (f)(19).

6. In § 679.41:

a. Remove the word “notarized” from paragraph (c)(3);

b. Revise paragraph (l)(3)(iii)(D);

c. Remove paragraph (m)(3)(vi); and

d. Revise paragraph (n)(2)(iii)(D).

The revisions read as follows:

§ 679.41 Transfer of quota shares and IFQ.

* * * * *

(l) * * *

(3) * * *

(iii) * * *

(D) The name of the non-profit organization, taxpayer ID number, NMFS person number, permanent business mailing addresses, name of contact persons and additional contact information of the managing personnel for the non-profit entity, resumes of management personnel, name of community or communities represented by the CQE, name of contact for the governing body of each community represented, date, name and signature of applicant.

* * * * *

(n) * * *

(2) * * *

(iii) * * *

(D) The name of the non-profit organization, taxpayer ID number, NMFS person number, permanent business mailing addresses, name of contact persons and additional contact information of the managing personnel for the non-profit entity, resumes of management personnel, name and signature of applicant; and

* * * * *

7. In § 679.42, remove and reserve paragraphs (l)(2)(i), (l)(2)(ii), (l)(3), and (l)(4), and revise paragraph (l)(5)(iv) to read as follows:

§ 679.42 Limitations on use of QS and IFQ.

* * * * *

(l) * * *

(5) * * *

(iv) Longline pot gear used on multiple vessels. Longline pot gear assigned to one vessel and deployed to fish IFQ sablefish in the GOA must be removed from the fishing grounds, and returned to port before being deployed by another vessel to fish IFQ sablefish in the GOA.

* * * * *

PART 680—SHELLFISH FISHERIES OF THE EXCLUSIVE ECONOMIC ZONE OFF ALASKA

8. The authority citation for part 680 continues to read as follows:

Authority: 16 U.S.C. 1862; Pub. L. 109-241; Pub. L. 109-479.

9. In § 680.41:

a. Remove and reserve paragraph (c)(2)(ii)(F)(2);

b. Remove the phrase “original notarized” from paragraph (i)(2) and the word “notarized” from the first sentence in paragraph (j)(2)(i)(C)(1);

c. Remove and reserve paragraph (j)(2)(i)(C)(2);

d. Revise the heading for paragraph (k)(3)(ix);

e. Remove and reserve paragraph (k)(3)(ix)(A)(2);

f. Remove the word “transferor” and add in its place the word “transferee” in the first sentence in paragraph (k)(3)(ix)(B)(1);

g. Remove and reserve paragraph (k)(3)(ix)(B)(2); and

h. Remove and reserve paragraph (k)(3)(ix)(C)(2).

The revisions read as follows:

§ 680.41 Transfer of QS, PQS, IFQ and IPQ.

* * * * *

(k) * * *

(3) * * *

(ix) Certification information—

* * * * *

[FR Doc. 2021-26831 Filed 12-10-21; 8:45 am]

BILLING CODE 3510-22-P